DEPARTMENT OF HOMELAND SECURITY

Office of the Secretary

Homeland Security Advisory Council

AGENCY: Office of the Secretary, Department of Homeland Security.

ACTION: Notice of Federal Advisory Committee meeting.

SUMMARY: The Homeland Security Advisory Council (HSAC) will hold its next meeting in Washington, DC on Thursday, June 17, 2004. The HSAC will meet for purposes of: (1) Welcoming and swearing in new members; (2) deliberation on recommendations of the Task Force on State and Local Funding; (3) receiving reports from Senior Advisory Committees; (4) receiving briefings from DHS staff on Departmental initiatives; and (5) holding roundtable discussions with and among HSAC members.

This meeting will be partially closed; the open portions of the meeting for purposes of (1) through (3) above will be held at the U.S. Secret Service Headquarters, 950 H Street, NW., Washington, DC from 10 a.m. to 12 p.m. The closed portions of the meeting, for purposes of (4) and (5) above will be held at the U.S. Secret Service Headquarters from 9 a.m. to 9:50 a.m. and from 12:10 p.m. to 3 p.m.

Public Attendance: A limited number of members of the public may register to attend the public session on a first-come, first-served basis per the procedures that follow. Security requires that any member of the public who wishes to attend the public session provide his or her name, social security number, and date of birth no later than 5 p.m. EST, Friday, June 11, 2004. Please provide the required information to Mike Miron or Jeff Gaynor of the HSAC staff, via e-mail at HSAC@dhs.gov, or via phone at (202) 692-4283. Persons with disabilities who require special assistance should indicate so in their admittance request. Photo identification will be required for entry into the public session, and everyone in attendance must be present and seated by 9:45 a.m.

Basis for Closure: In accordance with section 10(d) of the Federal Advisory Committee Act, Public Law 92-463, as amended (5 U.S.C. App. 2), the Secretary has issued a determination that portions of this HSAC meeting will concern matters sensitive to homeland security within the meaning of 5 U.S.C. 552b(c)(7) and (c)(9)(B) and that, accordingly, these portions of the meeting will be closed to the public.

Public Comments: Members of the public who wish to file a written statement with the HSAC may do so by mail to Mike Miron at the following address: Homeland Security Advisory Council, Department of Homeland Security, Washington, DC 20528. Comments may also be sent via e-mail to HSAC@dhs.gov or via fax at (202) 772-9718.

Dated: May 28, 2004.
Tom Ridge,
Secretary of Homeland Security.

[FR Doc. 04-12610 Filed 6-1-04; 8:45 am]

BILLING CODE 4410-10-P